INTERNATIONAL TRADE COMMISSION

[Investigation No. 332-534]

Renewable Energy and Related Services: Recent Developments

AGENCY: United States International Trade Commission.

ACTION: Institution of investigation and scheduling of public hearing.

SUMMARY: Following receipt of a request on July 30, 2012 from the U.S. Trade Representative (USTR) under section 332(g) of the Tariff Act of 1930 (19 U.S.C. 1332(g)), the U.S. International Trade Commission (Commission) instituted investigation No. 332-534, Renewable Energy and Related Services: Recent Developments.

DATES:

November 15, 2012: Deadline for filing requests to appear at the public hearing.

November 19, 2012: Deadline for filing pre-hearing briefs and statements.

November 29, 2012: Public hearing.

December 17, 2012: Deadline for filing post-hearing briefs and statements.

March 1, 2013: Deadline for filing all other written submissions.

June 28, 2013: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Lisa Alejandro (202-205-3486 or Lisa.Alejandro@usitc.gov) or Deputy Project Leader Samantha Brady Pham (202-205-3459 or Samantha.Pham@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter the USTR requested that the Commission prepare two reports, one on environmental and related services, and a second on renewable energy and related services, and deliver the reports in 8 and 11 months, respectively, after receipt of the letter. This notice announces the institution of an investigation and schedule, including the date for a public hearing, relating to the preparation of the second report, on renewable energy and related services; the Commission published notice of the institution of the first investigation, No. 332-533, Environmental and Related Services, in the Federal Register of August 21, 2012.

As requested by the USTR, the Commission will provide a report on renewable energy and related services that, to the extent practicable:

• Defines types of renewable energy and related services, identifies leading suppliers, and generally describes the relationship of renewable energy services to the development of renewable energy projects worldwide;

• Estimates the size of the U.S. and global markets for certain renewable energy services, identifies key export and import markets for such services, and describes factors affecting supply and demand;

• Examines U.S. and global renewable energy services trade during 2007-11, and highlights recent trends in investment in renewable energy projects and firms, including new business strategies or practices;

• Identifies barriers to U.S. trade and investment in renewable energy services, and examines recent efforts to liberalize trade in leading markets for such services; and

• Examines the role of clean energy incentive programs in encouraging investment in and creating markets for renewable energy goods and services.

As requested by the USTR, the report will focus on services incidental to the development, generation, and distribution of renewable energy, with particular emphasis on wind energy (onshore and offshore) and solar energy, and other technologies that the Commission's research shows to be of significance. The USTR defined such services to include scientific and technical consulting, services incidental to energy distribution, professional services, construction and engineering services, management consulting and related services, and maintenance and repair of equipment, among others.

As requested, the Commission expects to deliver this second report to the USTR no later than June 28, 2013.

Public Hearing: A public hearing in connection with this investigation will be held at the U.S. International Trade Commission Building, 500 E Street SW., Washington, DC, beginning at 9:30 a.m. on November 29, 2012. Requests to appear at the public hearing should be filed with the Secretary no later than 5:15 p.m., November 19, 2012. All pre-hearing briefs and statements should be filed no later than 5:15 p.m. November 6, 2012 and all post-hearing briefs and statements should be filed no later than 5:15 p.m., December 17, 2012. All pre- and post-hearing briefs and statements must be filed in accordance with the requirements in the “Written Submissions” section below. In the event that no witnesses are scheduled to appear at the hearing as of the close of business on November 15, 2012, the hearing will be canceled. Any person interested in attending the hearing as an observer or nonparticipant should contact the Office of the Secretary at 202-205-2000 after November 1, 2012, for information concerning whether the hearing will be held.

Written Submissions: In lieu of or in addition to participating in the hearing, interested parties are invited to file written submissions concerning this investigation. All written submissions (other than those related to the hearing) should be addressed to the Secretary, and should be received no later than 5:15 p.m., March 1, 2013. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements in section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In the request letter, the USTR stated that his office intends to make the Commission's report available to the public in its entirety, and asked that the Commission not include any confidential business information or national security classified information in the report. Any confidential business information received by the Commission in this investigation and used in preparing this report will not be published in a manner that would reveal the operations of the firm supplying the information.

By order of the Commission.
Issued: August 27, 2012.
Lisa R. Barton,
Acting Secretary to the Commission.

[FR Doc. 2012-21492 Filed 8-30-12; 8:45 am]

BILLING CODE 7020-02-P